DEPARTMENT OF THE INTERIOR

Bureau of Land Management

[UT-060-06-1430; UTU-81536]

Notice of Realty Action; Cancellation; Noncompetitive Lease of Public Land; Grand County, UT

AGENCY: Bureau of Land Management, Interior.

ACTION: Notice of Realty Action; Cancellation.

SUMMARY: This notice announces the cancellation of the Notice of Realty Action published in the Federal Register on March 14, 2006.

FOR FURTHER INFORMATION CONTACT: Mary von Koch, Realty Specialist, Moab Field Office, 435-259-2128.

SUPPLEMENTARY INFORMATION: The decision to cancel the Notice of Realty Action is based on the comments received during the 45-day comment period. Interested parties pointed out uncertainties with allocation of water rights that are critical for the proposed agricultural lease, they objected to BLM's determination that no competitive interests exist, and stated that the separation of public and State Trust lands for a separate use from the private lands will create haphazard inholdings and access problems for private landowners and grazing permittees. BLM has determined that cancellation of the NORA and continued management of the parcels for existing uses, pending exchange with State Trust, is in the public interest.

Dated: June 27, 2006.
A. Lynn Jackson,
Assistant Field Manager, Resources.

[FR Doc. 06-6388 Filed 7-20-06; 8:45 am]

BILLING CODE 4310-DQ-M